DEPARTMENT OF ENERGY

Federal Energy Regulatory Commission

Notice of Effectiveness of Exempt Wholesale Generator Status

| Docket Nos.
Troutdale Grid, LLC | EG24-249-000
Ponderosa Wind II, LLC | EG24-250-000
Oliver Wind IV, LLC | EG24-251-000
Steele Flats Wind I, LLC | EG24-252-000
Minco II Energy Storage, LLC | EG24-253-000
Breckinridge Energy Storage, LLC | EG24-254-000
Harquahala Sun 1, LLC | EG24-255-000
Harquahala Sun 2, LLC | EG24-256-000
HV Sun SFA Manager 1, LLC | EG24-257-000
MS Solar 7, LLC | EG24-258-000
Holyoke BESS, LLC | EG24-259-000
PNY BESS, LLC | EG24-260-000
Wellesley BESS, LLC | EG24-261-000
Unbridled Solar, LLC | EG24-262-000
Mordor ES1 LLC | EG24-263-000
Mordor ES2 LLC | EG24-264-000
Clearview Solar I, LLC | EG24-265-000
BPL Crown Solar LLC | EG24-266-000
BPL Files Solar LLC | EG24-267-000
BPL Sol Solar LLC | EG24-268-000
Elisabeth Solar, LLC | EG24-270-000
Sierra Pinta Energy Storage, LLC | EG24-271-000

Take notice that during the month of October 2024, the status of the above-captioned entities as Exempt Wholesale Generators became effective by operation of the Commission's regulations. 18 CFR 366.7(a) (2024).

Dated: November 4, 2024.
Debbie-Anne A. Reese,
Secretary.

[FR Doc. 2024-26001 Filed 11-7-24; 8:45 am]

BILLING CODE 6717-01-P